NUCLEAR REGULATORY COMMISSION

[Docket No. 40-8584]

Notice of Availability of Environmental Assessment and Finding of No Significant Impact for License Amendment for Kennecott Uranium Company, Rawlins, WY

AGENCY: Nuclear Regulatory Commission.

ACTION: Notice of availability.

FOR FURTHER INFORMATION CONTACT: Stephen J. Cohen, Project Manager, Fuel Cycle Facilities Branch, Division of Fuel Cycle Safety and Safeguards, Office of Nuclear Material Safety and Safeguards, U.S. Nuclear Regulatory Commission, Washington, DC, 20555-0001. Telephone: (301) 415-7182; fax number: (301) 415-5955; e-mail: sjc7@nrc.gov.

SUPPLEMENTARY INFORMATION:

I. Introduction

The Nuclear Regulatory Commission (NRC) is issuing an amendment to Materials License No. SUA-1350 issued to Kennecott Uranium Company (the licensee), to authorize the reclamation of contaminated soil and ground water at its Sweetwater Uranium Project near Rawlins, Wyoming. NRC has prepared an Environmental Assessment (EA) in support of this amendment in accordance with the requirements of 10 CFR Part 51. Based on the EA, the NRC has concluded that a Finding of No Significant Impact (FONSI) is appropriate. The amendment will be issued following the publication of this Notice.

II. EA Summary

The purpose of the proposed amendment is to authorize the remediation of soil and ground water contaminated with diesel range organics (DRO), radium-226, and minute amounts of volatile organic compounds at the licensee's Sweetwater Uranium Project. Specifically, the amendment will allow the licensee to excavate contaminated soils and extract contaminated ground water from the catchment basin area and dispose of these contaminated materials (11e.(2) byproduct material) within the existing tailings impoundment.

On May 12, 2004, Kennecott Uranium Company requested that NRC approve the proposed amendment. The staff has prepared the EA in support of the proposed license amendment. Staff considered impacts to land use, geology and soils, water resources, ecology, meteorology, climatology, air quality, socioeconomics, historical and cultural resources, public and occupational health, and transportation. The staff found that the impacts of the proposed action were not significant because these actions would remove contamination sources and residual contamination, and they will occur within a small portion of the NRC-licensed area that was previously used as part of the milling process. Consequently, these actions will prevent the spread of contamination to environmental resources without causing significant impacts to historical and cultural resources, local economy and social resources, and transportation networks.

III. Finding of No Significant Impact

On the basis of the EA, NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are as follows:

Document | ADAMS accession No. | Date
Sweetwater Uranium Project, Request for Amendment to License Conditions 11.3 and 11.5 | ML041450434 | 05/12/04
Sweetwater Uranium Project, Request for Amendment to License Condition 9.10 | ML041480493 | 05/12/04
Sweetwater Uranium Project, Revised Site Contour Map, Contours for Contaminated Soil, Excavated Areas | ML041530053 | 05/25/04
E-mail Acknowledgment of May 12, 2004, Amendment Request | ML041800207 | 06/24/04
Fax Report on the Threatened and Endangered Species of Sweetwater County | ML050450091 | 9/21/04
Request for Additional Information Concerning Source Materials License SUA-1350 | ML043070658 | 10/28/04
Sweetwater Uranium Project, Response to October 28, 2004, Request for Additional Information | ML043520255 | 12/15/04
E-mail Acknowledgment of Response to Request for Additional Information | ML050100257 | 01/04/05
Sweetwater Uranium Project Response to Comments Regarding Natural Uranium and Thorium-230 Remediation in Subsurface Soils | ML050350266 | 1/18/05
Draft Environmental Assessment for Amendment to Source Materials License SUA-1350 for the Catchment Basin Reclamation | ML050610246 | 2/28/05
Wyoming DEQ's Review of the Draft Environmental Assessment, Catchment Basin Remediation Amendment Request | ML050980238 | 04/04/05
Fish and Wildlife Service's Comments on Draft Environmental Assessment for Kennecott Sweetwater Proposed Amendment | ML051170286 | 04/14/05
Environmental Assessment for Amendment of Source Materials License SUA-1350 for the Catchment Basin Reclamation | ML051220285 | 5/20/05

If you do not have access to ADAMS or if there are problems in accessing the documents located in ADAMS, contact the NRC's Public Document Room (PDR) reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated at Rockville, MD, this 6th day of May, 2005.
For The Nuclear Regulatory Commission.
Stephen J. Cohen,
Project Manager, Uranium Processing Section, Fuel Cycle Facilities Branch, Division of Fuel Cycle Safety and Safeguards, Office of Nuclear Material Safety and Safeguards.

[FR Doc. E5-2581 Filed 5-20-05; 8:45 am]

BILLING CODE 7590-01-P